DEPARTMENT OF THE INTERIOR

National Park Service

Notice of Inventory Completion for Native American Human Remains and Associated Funerary Objects in the Control of the U.S. Department of the Interior, Bureau of Land Management, New Mexico State Office, Santa Fe, NM

AGENCY: National Park Service, Interior.

ACTION: Notice

Notice is hereby given in accordance with provisions of the Native American Graves Protection and Repatriation Act (NAGPRA), 43 CFR 10.9, of the completion of an inventory of human remains and associated funerary objects in the control of the U.S. Department of the Interior, Bureau of Land Management, New Mexico State Office, Santa Fe, NM.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Colorado Museum, Eastern New Mexico University, Maxwell Museum of Anthropology (University of New Mexico), New Mexico State University Museum, Museum of New Mexico, San Juan County Museum, and Bureau of Land Management professional staff in consultation with representatives of the Hopi Tribe of Arizona; Navajo Nation, Arizona, New Mexico, and Utah; Pueblo of Acoma, New Mexico; Pueblo of Jemez, New Mexico; the Pueblo of Isleta, New Mexico; Pueblo of San Ildefonso, New Mexico; Pueblo of Zia, New Mexico; and Zuni Tribe of the Zuni Reservation.

In 1915, human remains representing five individuals were recovered from an undesignated archeological site in Gobernado Canyon, Rio Arriba County, NM, during legally authorized excavations and collections conducted by Earl Morris, University of Colorado-Boulder, and the American Museum of Natural History, New York, NY. These human remains are presently curated at the University of Colorado Museum, Boulder, CO. No known individuals were identified. No associated funerary objects are present.

Based on material culture, this Gobernador Canyon site has been identified as an Anasazi site occupied between C.E. 700 and 1100.

In 1975, human remains representing one individual were recovered from site LA 3686, San Juan County, NM, during legally authorized excavations and collections by the School of American Research, Santa Fe, NM. These human remains are presently curated at the Maxwell Museum of Anthropology at the University of New Mexico. No known individual was identified. No associated funerary objects are present.

Based on material culture and site organization, site LA 3686 has been identified as a small Anasazi pueblo occupied between C.E. 1100 and 1300.

In 1989, human remains representing one individual were recovered form site LA 16660, San Juan County, NM, during legally authorized excavations and collections by the Office of Contract Archeology, University of New Mexico. These human remains are presently curated at the Maxwell Museum of Anthropology, University of New Mexico. No known individuals was identified. No associated funerary objects were present.

Based on material culture, architecture, and site organization, site LA 16660 has been identified as a small Anasazi pueblo occupied between C.E. 900 and 1300.

In 1979, human remains representing one individual were recovered from site LA 18800, San Juan County, NM, during legally authorized excavations conducted by the Division of Conservation Archeology, San Juan County Museum. No known individual was identified. The one associated funerary object is a pottery sherd.

Based on consultation evidence and material culture, architecture, and site organization, site LA 18800 has been identified as a small Anasazi pueblo occupied between C.E. 900 and 1100.

Based on the above-mentioned information, officials of the Bureau of Land Management, New Mexico State Office have determined that, pursuant to 43 CFR 10.2 (d)(1), the human remains listed above represent the physical remains of eight individuals of Native American ancestry. Officials of the Bureau of Land Management, New Mexico State Office also have determined that, pursuant to 43 CFR 10.2 (d)(2), the one object listed above is reasonably believed to have been placed with or near individual human remains at the time of death or later as part of the death rite or ceremony. Lastly, officials of the Bureau of Land Management, New Mexico State Office have determined that, pursuant to 43 CFR 10.2 (e), there is a relationship of shared group identity that can be reasonably traced between these Native American human remains and associated funerary object and the Pueblo of Acoma, New Mexico; Hopi Tribe of Arizona; Pueblo of Jemez, New Mexico; Pueblo of San Ildefonso, New Mexico; Pueblo of San Juan, New Mexico; Pueblo of Taos, New Mexico; and Pueblo of Zia, New Mexico. This notice has been sent to officials of the Hopi Tribe of Arizona; Navajo Nation, Arizona, New Mexico, and Utah; Pueblo of Acoma, New Mexico; Pueblo of Jemez, New Mexico; Pueblo of Isleta, New Mexico; Pueblo of San Ildefonso, New Mexico; Pueblo of Zia, New Mexico; Ysleta Del Sur Pueblo, Texas; and Zuni Tribe of the Zuni Reservation. Representatives of any other Indian tribe that believes itself to be culturally affiliated with these human remains and associated funerary object should contact Stephen L. Fosberg, State Archeologist and NAGPRA Coordinator, New Mexico State Office, Bureau of Land Management, 1474 Rodeo Road, Santa Fe, NM 87502-0115, telephone (505) 438-7415, before July 5, 2001. Repatriation of the human remains and associated funerary object to the Pueblo of Acoma, New Mexico; Hopi Tribe of Arizona; Pueblo of Jemez, New Mexico; Pueblo of San Ildefonso, New Mexico; Pueblo of San Juan, New Mexico; Pueblo of Taos, New Mexico; and Pueblo of Zia, New Mexico may begin after that date if no additional claimants come forward.

Dated: May 17, 2001.
John Robbins,
Assistant Director, Cultural Resources Stewardship and Partnerships.

[FR Doc. 01-14075 Filed 6-4-01; 8:45 am]

BILLING CODE 4310-70-F